DEPARTMENT OF TRANSPORTATION

Office of the Secretary

Notice of Applications for Certificates of Public Convenience and Necessity and Foreign Air Carrier Permits Filed Under Subpart B (Formerly Subpart Q) During the Week Ending May 9, 2003

The following applications for certificates of public convenience and necessity and foreign air carrier permits were filed under subpart B (formerly subpart Q) of the Department of Transportation's procedural regulations (See 14 CFR 301.201 et. seq.). The due date for answers, conforming applications, or motions to modify scope are set forth below for each application. Following the answer period DOT may process the application by expedited procedures. Such procedures may consist of the adoption of a show-cause order, a tentative order, or in appropriate cases a final order without further proceedings.

Docket Number: OST-2003-15130.

Date Filed: May 7, 2003.

Due Date for Answers, Conforming Applications, or Motion to Modify Scope: May 28, 2003.

Description: Application of Northwest Airlines, Inc., pursuant to 49 U.S.C. sections 41101 and 41102 and subpart B, requesting a certificate of public convenience and necessity authorizing Northwest to provide scheduled foreign air transportation of persons, property, and mail between any point or points in the United States, via intermediate points, and any point or points in Iraq and beyond. Northwest also requests, that the Department integrate this certificate authority with all of its existing certificate and exemption authority to the extent consistent with U.S. bilateral agreements and DOT policy.

Docket Number: OST-2003-15138.

Date Filed: May 7, 2003.

Due Date for Answers, Conforming Applications, or Motion to Modify Scope: May 28, 2003.

Description: Application of Aviation Concepts, Inc., pursuant to 49 U.S.C. section 41102 and subpart B, requesting a certificate of public convenience and necessity to engage in foreign charter air transportation of persons, property, and mail.

Docket Number: OST-2003-15139.

Date Filed: May 7, 2003.

Due Date for Answers, Conforming Applications, or Motion to Modify Scope: May 28, 2003.

Description: Application of Aviation Concepts, Inc., pursuant to 49 U.S.C. section 41102 and subpart B, requesting a certificate of public convenience and necessity to engage in interstate charter air transportation of persons, property, and mail.

Dorothy Y. Beard,
Chief, Docket Operations & Media Management, Federal Register Liaison.

[FR Doc. 03-12813 Filed 5-21-03; 8:45 am]

BILLING CODE 4910-62-P